DEPARTMENT OF TRANSPORTATION

Coast Guard

33 CFR Part 117

[CGD07-01-013]

Drawbridge Operation Regulations; Cortez Bridge (SR 684), Cortez, FL

AGENCY: Coast Guard, DOT.

ACTION: Notice of temporary deviation from regulations.

SUMMARY: The Commander, Seventh Coast Guard District, has approved a temporary deviation from the regulations governing the operation of the Cortez Bridge across the Gulf Intracoastal Waterway, mile 87.4, Sarasota County, Cortez, Florida. This deviation allows the drawbridge owner or operator to only open one leaf of the drawbridge, from 8 a.m. until 5 p.m., on March 12, 2001 and March 13, 2001. This temporary deviation is required to allow the bridge owner to safely complete maintenance on the bridge.

DATES: This deviation is effective from 8 a.m. on March 12, 2001 until 5 p.m. on March 13, 2001.

FOR FURTHER INFORMATION CONTACT: Mr. Barry Dragon, Chief, Operations Section, Seventh Coast Guard District, Bridge Section at (305) 415-6743.

SUPPLEMENTARY INFORMATION: The Cortez Bridge across the Gulf Intracoastal Waterway at Sarasota County, Cortez, FL is a double leaf bridge with a vertical clearance of 25.5 feet above mean high water (MHW) measured at the fenders in the closed position with a horizontal clearance of 90 feet. On January 24, 2001, the Florida Department of Transportation, the drawbridge owner, requested a deviation from the current operating regulations in 33 CFR 117.287(d)(1). Those regulations require the draw to open on signal, except from 7 a.m. to 6 p.m., the draw need only open on the hour, twenty minutes past the hour, and forty minutes past the hour. This temporary deviation was requested to allow necessary maintenance to the drawbridge in a critical time sensitive manner.

The District Commander has granted a temporary deviation from the operating requirements listed in 33 CFR 117.287(d)(1) for the purpose of maintenance on the drawbridge. Under this deviation, the Cortez Bridge need only open one leaf from 8 a.m. until 5 p.m. on March 12, 2001 and March 13, 2001.

Dated: February 14, 2001.
Greg E. Shapley,
Chief, Bridge Administration, Seventh Coast Guard District.

[FR Doc. 01-4547 Filed 2-22-01; 8:45 am]

BILLING CODE 4910-15-P